DEPARTMENT OF THE TREASURY

Submission for OMB Review; Comment Request

September 2, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 12, 2005 to be assured of consideration.

Internal Revenue Service (IRS)

OMB Number: 1545-0967.

Type of Review: Extension.

Title: U.S. Estate or Trust Income Tax Declaration and Signature for Electronic and Magnetic Media Filing.

Form: IRS form 8453-F.

Description: Form 8453-F is used to secure taxpayer signature and declarations in conjunction with electronic and magnetic media filing of trust and fiduciary income tax returns. This form, together with the electronic and magnetic media transmission, will comprise the taxpayer's income tax return (Form 1041).

Respondents: Individuals or Households and Business or other-for-profit.

Estimated Total Burden Hours: 880 hours.

OMB Number: 1545-1004.

Type of Review: Revision.

Title: U.S. Income Tax Return for Real Estate Investment Trusts.

Form: IRS form 1120-REIT.

Description: Form 1120-REIT is filed by a corporation, trust or association electing to be taxed as a REIT in order to report its income and deductions, and to compute its tax liability. IRS uses Form 1120-REIT to determine whether the REIT has correctly reported its income, deductions and tax liability.

Respondents: Business or other-for-profit.

Estimated Total Burden Hours: 46,490 hours.

OMB Number: 1545-1350.

Type of Review: Extension.

Title: Installment Agreement Request.

Form: IRS form 9465.

Description: Form 9465 is used by the public to provide identifying account information and financial ability to enter into an installment agreement for payment of taxes. The form is used by IRS to establish a payment plan for taxes owed to the federal government, if appropriate, and to inform taxpayers about the application fee and their financial responsibilities.

Respondents: Individuals or households.

Estimated Total Burden Hours: 805,600 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-17962 Filed 9-9-05; 8:45 am]

BILLING CODE 4830-01-P